DEPARTMENT OF TRANSPORTATION

Federal Aviation Administration

14 CFR Part 39

[Docket No. 2003-CE-42-AD; Amendment 39-13333; AD 2003-20-15]

RIN 2120-AA64

Airworthiness Directives; Pilatus Aircraft Ltd. Models PC-12 and PC-12/45 Airplanes

AGENCY: Federal Aviation Administration (FAA), DOT.

ACTION: Final rule; request for comments.

SUMMARY: The FAA is adopting a new airworthiness directive (AD) for certain Pilatus Aircraft Ltd. (Pilatus) Models PC-12 and PC-12/45 airplanes. This AD requires you to inspect for certain installed fuel booster pumps and replace that fuel booster pump, inspect other certain fuel booster pumps for defects, and either install lead protection spiral wrap or replace the defective fuel booster pumps, depending on whether defects are found. This AD is the result of mandatory continuing airworthiness information (MCAI) issued by the airworthiness authority for Switzerland. We are issuing this AD to detect and correct any defective fuel booster pump, which could result in electrical arcing from the leads in an air/fuel mixture. Such failure could lead to a fire or explosion of a fuel tank.

DATES: This AD becomes effective on October 10, 2003.

The Director of the Federal Register approved the incorporation by reference of certain publications listed in the regulation as of October 10, 2003.

We must receive any comments on this AD by December 10, 2003.

ADDRESSES: Use one of the following to submit comments on this AD:

• By mail: FAA, Central Region, Office of the Regional Counsel, Attention: Rules Docket No. 2003-CE-42-AD, 901 Locust, Room 506, Kansas City, Missouri 64106.

• By fax: (816) 329-3771.

• By e-mail: 9-ACE-7-Docket@faa.gov. Comments sent electronically must contain “Docket No. 2003-CE-42-AD” in the subject line. If you send comments electronically as attached electronic files, the files must be formatted in Microsoft Word 97 for Windows or ASCII.

You may get the service information identified in this AD from Pilatus Business Aircraft Ltd., Product Support Department, 11755 Airport Way, Broomfield, Colorado 80021; telephone: (303) 465-9099; facsimile: (303) 465-6040.

You may view the AD docket at FAA, Central Region, Office of the Regional Counsel, Attention: Rules Docket No. 2003-CE-42-AD, 901 Locust, Room 506, Kansas City, Missouri 64106. Office hours are 8 a.m. to 4 p.m., Monday through Friday, except Federal holidays.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What Events Have Caused This AD?

The Federal Office for Civil Aviation (FOCA), which is the airworthiness authority for Switzerland, recently notified FAA that an unsafe condition may exist on certain Pilatus Models PC-12 and PC-12/45 airplanes. The FOCA reports 11 reports of damaged fuel booster pump wires from 9 different aircraft. Within the FAA service difficulty/accident report system, we found eight occurrences of damaged fuel booster pump wires. This damage to the electrical wires could possibly cause electrical arcing when the wires get in an air/fuel mixture.

What Are the Consequences if the Condition Is Not Corrected?

Such electrical arcing could lead to a fire or explosion of a fuel tank.

Is There Service Information That Applies to This Subject?

Pilatus has issued:

Pilatus PC12 Service Bulletin No. 28-011, Revision No. 1, dated July 11, 2003;

Pilatus PC12 Maintenance Manual Temporary Revision No. 12-03 (12-10-01), dated June 6, 2003; and

Pilatus PC12 Maintenance Manual Temporary Revision No. 28-02 (28-20-04), dated June 6, 2003.

What Are the Provisions of This Service Information?

The service information includes procedures for:

—Inspecting the fuel booster pumps for defects;

—Replacing fuel booster pumps;

—Installing lead protection spiral wrap; and

—Incorporating Temporary Revision No. 7, dated June 6, 2003, or Temporary Revision No. 37, dated June 6, 2003, to the Section 2—Limitations section of the applicable pilot's operating handbook (POH). This is a temporary option and replacing the subject fuel booster pump or installing the lead protection spiral wrap is mandatory within a certain time frame.

What Action Did the FOCA Take?

The FOCA classified this service bulletin as mandatory and issued Swiss AD Number HB 2003-301, dated July 17, 2003, in order to ensure the continued airworthiness of these airplanes in Switzerland.

Was This in Accordance With the Bilateral Airworthiness Agreement?

The Pilatus Models PC-12 and PC-12/45 are manufactured in Switzerland and are type-certificated for operation in the United States under the provisions of section 21.29 of the Federal Aviation Regulations (14 CFR 21.29) and the applicable bilateral airworthiness agreement.

Per this bilateral airworthiness agreement, the FOCA has kept us informed of the situation described above.

FAA's Determination and Requirements of This AD

What Has FAA decided?

We have examined the FOCA's findings, reviewed all available information, and determined that AD action is necessary for products of this type design that are certificated for operation in the United States.

Since the unsafe condition described previously is likely to exist or develop on other Pilatus Models PC-12 and PC-12/45 airplanes of the same type design that are registered in the United States, this AD is being issued to detect and correct any defective fuel booster pump, which could result in electrical arcing from the leads in an air/fuel mixture. Such failure could lead to a fire or explosion of a fuel tank.

What Does This AD Require?

This AD requires you to incorporate the actions in the previously-referenced service information.

In preparation of this rule, we contacted type clubs and aircraft operators to obtain technical information and information on operational and economic impacts. We did not receive any information through these contacts. If received, we would have included, in the rulemaking docket, a discussion of any information that may have influenced this action.

How Does the Revision to 14 CFR Part 39 Affect This AD?

On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Compliance Time of This AD

What Would Be the Compliance Time of This AD?

The compliance time of this AD is within the next 7 calendar days after October 10, 2003 (the effective date of this AD).

Why Is This Compliance Time Presented in Calendar Time Instead of Hours TIS?

The leads may rub and arc as a result of aircraft operation. Therefore, FAA has determined that a compliance based on calendar time should be utilized in this AD in order to ensure that the unsafe condition is addressed on all aircraft in a reasonable time period.

Comments Invited

Will I Have the Opportunity To Comment Prior to the Issuance of the Rule?

This AD is a final rule that involves requirements affecting flight safety and was not preceded by notice and an opportunity for public comment; however, we invite you to submit any written relevant data, views, or arguments regarding this AD. Send your comments to an address listed under ADDRESSES. Include “AD Docket No. 2003-CE-42-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Regulatory Findings

Will This AD Impact Various Entities?

We have determined that this AD will not have federalism implications under Executive Order 13132. This AD will not have a substantial direct effect on the States, on the relationship between the national government and the States, or on the distribution of power and responsibilities among the various levels of government.

Will This AD Involve a Significant Rule or Regulatory Action?

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-42-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2003-20-15 Pilatus Aircraft Ltd.: Amendment 39-13333; Docket No. 2003-CE-42-AD.

When Does This AD Become Effective?

(a) This AD becomes effective on October 10, 2003.

Are Any Other ADs Affected By This Action?

(b) None.

What Airplanes Are Affected by This AD?

(c) This AD affects Models PC-12 and PC-12/45 airplanes, serial numbers 101 through 520, with fuel booster pump (fuel pump) part number (P/N) 969.84.11.401, 968.84.11.403, or 968.84.11.404 installed, that are certificated in any category.

What Is the Unsafe Condition Presented in This AD?

(d) This AD is the result of mandatory continuing airworthiness information (MCAI) issued by the airworthiness authority for Switzerland. We are issuing this AD to detect and correct any defective fuel booster pump, which could result in electrical arcing from the leads in an air/fuel mixture. Such electrical arcing could lead to a fire or explosion of a fuel tank.

What Must I Do To Address This Problem?

(e) To address this problem, you must accomplish the following unless already accomplished:

Actions | Compliance | Procedures
(1) Replace any installed fuel booster pump part number (P/N) 969.84.11.401 with a fuel pump that has the Pilatus PC12 Service Bulletin No. 28-011, Revision No. 1, dated July 11, 2003, modification incorporated | Within the next 7 calendar days after October 10, 2003 (the effective date of this AD) | Per Pilatus PC12 Service Bulletin No. 28-011, Revision No. 1, dated July 11, 2003, Pilatus PC12 Maintenance Manual Temporary Revision No. 12-03 (12-10-01), dated June 6, 2003, and Pilatus PC12 Maintenance Manual Temporary Revision No. 28-02 (28-20-04), dated June 6, 2003.
(2) Inspect the installed fuel booster pump P/N 968.84.11.403 or 968.84.11.404 for defects: (i) If defects are found, replace the fuel booster pump with a fuel booster pump that has the modification referenced in Pilatus PC12 Service Bulletin No. 28-011, Revision No. 1, dated July 11, 2003. | Within the next 7 calendar days after October 10, 2003 (the effective date of this AD) | Per Pilatus PC12 Service Bulletin No. 28-011, Revision No. 1, dated July 11, 2003, Pilatus PC12 Maintenance Manual Temporary Revision No. 12-03 (12-10-01), dated June 6, 2003, and Pilatus PC12 Maintenance Manual Temporary Revision No. 28-02 (28-20-04), dated June 6, 2003, and Pilatus PC12 Maintenance Manual Temporary Revision No. 28-02 (28-20-04), dated June 6, 2003.
(ii) If no defects are found: (B) Re-identify the fuel booster pump P/N and 968.84.11.403 or 968.84.11.404 by adding the suffix letter “B” adjacent to the serial Maintenance number on the fuel pump identification plate.
(3) Do not install any part referenced in paragraph (e)(1) or (e)(2) of this AD unless it has been modified per Pilatus PC12 Service Bulletin No. 28-011, Revision No. 1, dated July 11, 2003 | As of October 10, 2003 (the effective date of this AD) | Not applicable.
(4) If you have scheduled the replacement or installation required by paragraphs (e)(1) and (e)(2) of this AD, but the schedule puts you beyond the time to comply, you may insert Temporary Revision No. 7, dated June 6, 2003, or Temporary Revision No. 37, dated June 6, 2003, in the Section 2—Limitations section of the applicable pilot's operating handbook (POH) and operate the aircraft according | Prior to further flight after scheduling the replacement of installation. The replacement or installation of paragraphs (e)(1) and (e)(2) of this AD must be accomplished within 50 hours time-in-service after October 10, 2003 (the effective date of this AD). After compliance with paragraphs (e)(1) and (e)(2) of this AD, you may remove Temporary Revision No. 7, dated June 6, 2003, or Temporary Revision No. 37, dated June 6, 2003, from the POH | Anyone who holds at least a private pilot certificate, as authorized by section 43.7 of the Federal Aviation Regulations (14 CFR 43.7), may incorporate the POH revision required by this AD. You must make an entry into the aircraft records that shows compliance with this AD, per section 43.9 of the Federal Aviation Regulations (14 CFR 43.9). Send the following to the Small Airplane Directorate using the procedures described in paragraph (f) of this AD: the airplane model and serial number designation; the number of hours TIS on the airplane; the scheduled date for the replacement/installation; and the name and location of the authorized repair shop.

What About Alternative Methods of Compliance?

(f) You may request a different method of compliance or a different compliance time for this AD by following the procedures in 14 CFR 39.13. Send your request to the Manager, Standards Office, Small Airplane Directorate, FAA. For information on any already approved alternative methods of compliance, contact Doug Rudolph, Aerospace Engineer, FAA, Small Airplane Directorate, 901 Locust, Room 301, Kansas City, Missouri 64106; telephone: (816) 329-4059; facsimile: (816) 329-4090.

Is There Material Incorporated by Reference?

(g) You must do the actions required by this AD per Pilatus PC12 Service Bulletin No. 28-011, Revision No. 1, dated July 11, 2003, Pilatus PC12 Maintenance Manual Temporary Revision No. 12-03 (12-10-01), dated June 6, 2003, and Pilatus PC12 Maintenance Manual Temporary Revision No. 28-02 (28-20-04), dated June 6, 2003. The Director of the Federal Register approved the incorporation by reference of this service bulletin in accordance with 5 U.S.C. 552(a) and 1 CFR part 51. You may get a copy from Pilatus Business Aircraft Ltd., Product Support Department, 11755 Airport Way, Broomfield, Colorado 80021; telephone: (303) 465-9099; facsimile: (303) 465-6040.

You may review copies at FAA, Central Region, Office of the Regional Counsel, 901 Locust, Room 506, Kansas City, Missouri 64106; or at the Office of the Federal Register, 800 North Capitol Street, NW., suite 700, Washington, DC.

Is There Other Information That Relates to This Subject?

(h) Swiss AD Number HB 2003-301, dated July 17, 2003, also addresses the subject of this AD.

Issued in Kansas City, Missouri, on October 2, 2003.
Dorenda D. Baker,
Acting Manager, Small Airplane Directorate, Aircraft Certification Service.

[FR Doc. 03-25477 Filed 10-8-03; 8:45 am]

BILLING CODE 4910-13-P